DEPARTMENT OF THE TREASURY

Internal Revenue Service

26 CFR Part 1

[REG-132569-17]

RIN 1545-BO40

Definition of Energy Property and Rules Applicable to the Energy Credit; Correction

AGENCY: Internal Revenue Service (IRS), Treasury.

ACTION: Notice of proposed rulemaking; correction.

SUMMARY: This document corrects a notice of proposed rulemaking (REG-132569-17) published in the Federal Register on November 22, 2023, containing proposed regulations that would amend the regulations relating to the energy credit for the taxable year in which eligible energy property is placed in service.

DATES: Written or electronic comments are still being accepted and must be received by January 22, 2024. The public hearing on these proposed regulations is scheduled to be held on February 20, 2024, at 10 a.m. ET. Requests to speak and outlines of topics to be discussed at the public hearing must be received by January 22, 2024.

ADDRESSES: Commenters are strongly encouraged to submit public comments electronically. Submit electronic submissions via the Federal eRulemaking Portal at https://www.regulations.gov (indicate IRS and REG-132569-17). Once submitted to the Federal eRulemaking Portal, comments cannot be edited or withdrawn. The Department of the Treasury (the Treasury Department) and the IRS will publish for public availability any comment submitted to its public docket. Send paper submissions to: CC:PA:01:PR (REG-132569-17), Room 5203, Internal Revenue Service, P.O. Box 7604, Ben Franklin Station, Washington, DC 20044.

FOR FURTHER INFORMATION CONTACT: Concerning the proposed regulations, Office of Associate Chief Counsel (Passthroughs & Special Industries) at (202) 317-6853 (not a toll-free number); concerning submissions of comments or the public hearing, Vivian Hayes, (202) 317-6901 (not toll-free number) or by email to publichearings@irs.gov (preferred).

SUPPLEMENTARY INFORMATION:

Background

The notice of proposed rulemaking (REG-132569-17) that is the subject of this correction is under section 48 of the Internal Revenue Code.

Need for Correction

As published, the notice of proposed rulemaking (REG-132569-17) contains errors that need to be corrected.

Correction of Publication

Accordingly, the notice of proposed rulemaking (REG-132569-17), which was the subject of FR Doc. 2023-25539, published on November 22, 2023, at 88 FR 82188 is corrected:

§ 1.48-9 [Corrected]

1. On page 82214, the third column, the third line of paragraph (f)(2)(ii)(A) is corrected to read, “paragraph (f)(2)(ii)(B) of this section,”.

§ 1.48-13 [Corrected]

2. On page 82218, the first column, the third line of paragraph (e)(1) is corrected to read, “generating energy property, use the”.

3. On page 82218, the first column, the fourth line of paragraph (e)(2) is corrected to read, “9(e)(10)(ii)), use the storage device's”.

§ 1.48-14 [Corrected]

4. On page 82219, the second column, the tenth line of paragraph (c)(2) is corrected to read, “paragraph (f)(8) of this section, in no”.

5. On page 82220, the second column, the fifth line from the bottom of paragraph (f)(2)(i) is corrected to read, “used as an integral part (as defined in”.

6. On page 82221, the second column, first line of paragraph (f)(6)(i) is corrected to read, “or any successor form(s), filed with its”.

7. On page 82221, the second column, the eighth line from the bottom of paragraph (f)(6)(i) is corrected to read, “(f)(4) of this section to be treated as a”.

8. On page 82221, the second column, eleventh line of paragraph (f)(6)(ii) is corrected to read, “any successor form(s), filed with its timely”.

9. On page 82222, the first column, the seventh line from the bottom of paragraph (g)(3)(ii) is corrected to read, “property. Paragraphs (g)(3)(ii)(A) and (B)”.

10. On page 82222, the first column, the third line of paragraph (g)(3)(ii)(A) is corrected to read, “generating energy property, use the”.

§ 1.6418-5 [Corrected]

11. On page 82223, the second column, paragraph (f)(1), the fourth line from the bottom of the column is corrected to read, “described in § 1.48-13(c)(5)), such”.

12. On page 82223, the third column, the last line of paragraph (f)(2) is corrected to read, “defined in § 1.48-13(c)(4).”.

13. On page 82223, the third column, the last line of paragraph (f)(3) is corrected to read, “13(c)(3)(ii).”.

Oluwafunmilayo A. Taylor,
Section Chief, Publications and Regulations Section, Associate Chief Counsel, (Procedure and Administration).

[FR Doc. 2024-00496 Filed 1-11-24; 8:45 am]

BILLING CODE 4830-01-P